DEPARTMENT OF TRANSPORTATION

Coast Guard

33 CFR Part 165

[CGD09-01-009]

RIN 2115-AA97

Tall Ships Challenge 2001, Moving Safety Zone, Muskegon Lake, Muskegon, MI

AGENCY: Coast Guard, DOT.

ACTION: Notice of proposed rulemaking.

SUMMARY: The Coast Guard proposes to establish a Moving Safety Zone during the Tall Ships Challenge 2001 parade of tall ships in Muskegon Lake and vicinity, Muskegon, Michigan, from 11 a.m. until 5 p.m. on Monday, August 13, 2001. These regulations are necessary to ensure the safe navigation of vessels and the safety of life and property during periods of heavy vessel traffic.

DATES: Comments must reach the Coast Guard on or before June 4, 2001.

ADDRESSES: You may mail comments and related material to Coast Guard Marine Safety Detachment (MSD) Grand Haven (CGD09-01-009), 650 S. Harbor Drive, Grand Haven, Michigan 49417. Coast Guard MSD Grand Haven maintains the public docket for this rulemaking. Comments and material received from the public, as well as documents indicated in this preamble as being available in the docket, will become part of this docket and available for inspection or copying at Coast Guard MSD Grand Haven between 8 a.m. and 4 p.m., Monday through Friday, except Federal holidays.

FOR FURTHER INFORMATION CONTACT: LT David Berliner, Supervisor, Marine Safety Detachment Grand Haven (616) 850-2580.

SUPPLEMENTARY INFORMATION:

Request for Comments

We encourage you to participate in this rulemaking by submitting comments and related material. If you do so, please include your name and address, identify the docket number for this rulemaking (CGD09-01-009), indicate the specific section of this document to which each comment applies, and give the reason for each comment. Please submit all comments and related material in an unbound format, no larger than 8½ by 11 inches, suitable for copying. If you would like to know they reached us, please include a stamped, self-addressed postcard or envelope. We will consider all comments and material received during the comment period. We may change this proposed rule in view of them.

Public Meeting

We do not plan to hold a public meeting. But you may submit a request for a meeting by writing to Coast Guard MSD Grand Haven at the address under ADDRESSES explaining why one would be beneficial. If we determine that one would aid this rulemaking, we will hold one at a time and place announced by a later notice in the Federal Register.

Background and Purpose

The Port of Muskegon American Sail Training Association Tall Ships Challenge 2001 will take place in Muskegon, Michigan, from August 9, 2001 through August 13, 2001. During the Tall Ships Challenge 2001, a large number of tall ships will visit Muskegon Lake, with waterside events, in-port tours, and waterside moored vessel viewing. On Monday, August 13, 2001, from 11 a.m. to 5 p.m., the tall ships will take part in a ceremonial departure parade of tall ships, which is expected to attract a large number of spectator vessels. The Coast Guard will establish a Moving Safety Zone surrounding the participating tall ships to ensure the safety of participating and spectator vessels and personnel.

The Moving Safety Zone will include the areas around and between all the vessels participating in the Tall Ships Challenge 2001 parade of tall ships during their transit in Muskegon Lake and vicinity on Monday, August 13, 2001. The Moving Safety Zone will include the area extending a distance of 100 yards ahead of the lead vessel in the parade, 100 yards abeam each vessel in the parade, and 100 yards astern of the last vessel in the parade. The Moving Safety Zone will ensure that spectator craft do not impede the path of any of the parade vessels.

The vessel congestion due to the large number of participating and spectator vessels poses a significant threat to the safety of life. This proposed rulemaking is necessary to ensure the safety of life on the navigable waters of the United States.

Discussion of Proposed Rule

In order to ensure vessel safety, a Moving Safety Zone is proposed for the vessels participating in the Tall Ships Challenge 2001 parade of tall ships on Monday, August 13, 2001. The Moving Safety Zone will be in effect around the vessels participating in the parade of tall ships from 11 a.m. until 5 p.m. on Monday, August 13, 2001. The parade of tall ships will begin at 11 a.m. on Monday, August 13, 2001 in Muskegon Lake at approximately 43°14′36″ N, 086°15′44″ W. The parade of tall ships will then proceed to waypoint 43°13′37″ N, 086°17′41″ W, then to waypoint 43°14′07″ N, 086°19′21″ W, then outbound through Muskegon Lake Entrance Channel to the final parade waypoint in Lake Michigan at 43°13′11″ N, 086°21′36″ W. The parade of tall ships will finish at approximately 5 p.m. on Monday, August 13, 2001.

Regulatory Evaluation

This proposed rule is not a significant regulatory action under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10e of the regulatory policies and procedures of DOT is unnecessary. The Moving Safety Zone will be in effect for a limited time, and extensive advance notice will be made to the maritime community via Local Notice to Mariners and marine safety information broadcasts. This temporary regulation is tailored to impose a minimal impact on maritime interests without compromising safety. Compensating for any adverse impacts are the favorable economic impacts that these events will have on commercial activity in the area as a whole from the boaters and tourists these events are expected to attract.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. The proposed rule would affect the following entities, some of which might be small entities: The owners of businesses along the regulated portion of Muskegon Lake and vicinity, and the owners or operators of vessels intending to transit in the regulated portion of Muskegon Lake and vicinity from 11 a.m. EDT through 5 p.m. EDT on Monday, August 13, 2001. The proposed rule would not have a significant economic impact on a substantial number of small entities for the following reasons: The rule will be in effect for a short time, and before the effective period, we will issue extensive advance notice of the event to the maritime community via Local Notice to Mariners and marine safety information broadcasts.

If you think that your business, organization, or governmental jurisdiction qualifies as a small entity and that this rule would have a significant economic impact on it, please submit a comment (see ADDRESSES) explaining why you think it qualifies and how and to what degree this proposed rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Coast Guard MSD Grand Haven at the address listed under ADDRESSES.

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local or tribal government or the private sector to incur direct costs without the Federal Government's having first provided the funds to pay those costs. The proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

We considered the environmental impact of this proposed rule and concluded that under figure 2-1, paragraph 34(g) of Commandant Instruction M16475.1C, this proposed rule is categorically excluded from further environmental documentation. This rule will not cause significant impacts on the environment; significantly change existing environmental conditions; have more than a minimal impact on protected properties; or provide inconsistencies with State, local or Federal laws. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, and 160.5; 49 CFR 1.46.

2. Add temporary § 165.T09-013 to read as follows:

§ 165.T09-013 Moving safety zone: tall ships challenge 2001, Muskegon Lake and Lake Michigan, Muskegon, Michigan.

(a) Location. The waters of Muskegon Lake and Lake Michigan, Muskegon, Michigan.

(b) Effective date. These regulations are in effect from 11 a.m. EDT until 5 p.m. EDT on Monday, August 13, 2001.

(c) Regulations.

(1) The following area is designated as a Moving Safety Zone for the Tall Ships Challenge 2001 parade of tall ships: All waters in an area extending a distance of 100 yards ahead of the lead vessel in the parade, 100 yards abeam each vessel in the parade, and 100 yards astern of the last vessel in the Tall Ships Challenge 2001 parade of tall ships. The Moving Safety Zone for the parade will begin at 11 a.m. on Monday, August 13, 2001 in Muskegon Lake at approximately 43°14′36″ N, 086°15′44″ W, and will remain with the parade of tall ships beginning at 43°14′36″ N, 086°15′44″ W, proceeding to waypoint 43°13′37″ N, 086°17′41″ W, then to waypoint 43°14′07″ N, 086°19′21″ W, then outbound through Muskegon Lake Entrance Channel to the final parade waypoint in Lake Michigan at 43°13′11″ N, 086°21′36″ W. The Moving Safety Zone will terminate at 5 p.m. EDT on Monday, August 13, 2001 at position 43°13′11″ N, 086°21′36″ W.

(2) All vessel operators shall comply with the instructions of the U.S. Coast Guard Captain of the Port Chicago or the designated on-scene U.S. Coast Guard patrol personnel including commissioned, warrant, and petty officers. Permission to deviate from the above rules must be obtained from the Captain of the Port Chicago or his representative by VHF/FM radio, Channel 9 or by telephone at (616) 204-2877.

Dated: March 27, 2001.
James D. Hull,
Rear Admiral, U.S. Coast Guard, Commander, Ninth Coast Guard District, Cleveland, Ohio.

[FR Doc. 01-8186 Filed 4-3-01; 8:45 am]

BILLING CODE 4910-15-U